DEPARTMENT OF COMMERCE

National Oceanic and Atmospheric Administration

Availability of a Final Damage Assessment and Restoration Plan and Environmental Assessment for Natural Resource Injuries and Service Losses Associated With the Fort Lauderdale Mystery Oil Spill in Florida

AGENCY: National Oceanic and Atmospheric Administration (NOAA), Commerce.

ACTION: Notice.

SUMMARY: Notice is hereby given that a document entitled, “Final Damage Assessment and Restoration Plan and Environmental Assessment for the Fort Lauderdale Mystery Oil Spill” (Final DARP/EA) is available. This document has been prepared by the state and Federal natural resource trustee agencies (Florida Department of Environmental Protection, FDEP, and the National Oceanic and Atmospheric Administration, NOAA) to address natural resource injuries and resource service losses resulting from a mystery oil spill in the Fort Lauderdale area. This Final DARP/EA presents the trustees' assessment of the natural resource injuries and service losses and their final plan to compensate for those losses by restoring natural resources and services. The trustees provided the public an opportunity to comment on a public review Draft DARP/EA. The Draft DARP/EA was released on June 24, 2002 and was announced in local newspapers and the Federal Register (June 24, 2002; 67 FR 42538). The trustees received two public comments on the Draft DARP/EA, both were in support of one of the restoration projects. As a result, there are no significant changes in the evaluation or selection of restoration projects since the Draft DARP/EA.

ADDRESSES: Requests for copies of the Final DARP/EA should be directed to Tony Penn of NOAA, 1305 East West Highway, Station 10218, Silver Spring, MD 20910, e-mail: tony.penn@noaa.gov. The Final DARP/EA is also available electronically at http://www.darp.noaa.gov.

FOR FURTHER INFORMATION CONTACT: For further information contact: Tony Penn, at (301) 713-3038 x197, e-mail: tony.penn@noaa.gov.

SUPPLEMENTARY INFORMATION: On Tuesday morning, August 8, 2000, oil tar balls and oil mats were observed on beaches in the area of Fort Lauderdale, Florida. Within the next few days, approximately 20 miles of high-use recreational beaches, from North Miami Beach northward to near Pompano Beach (primarily Broward County beaches), were oiled; some were closed for cleaning. The origin of the oil is unknown. The United States Coast Guard, the lead response agency for the incident, classified the spill as medium, and the trustees have estimated the amount of oil stranded on the shoreline to be approximately 15,000 gallons.

Natural resources or their services impacted as a result of the incident include threatened and endangered sea turtles and their habitats, marine surface waters and their biota including fish, birds, and recreational use of beaches. Response actions removed the majority of the shoreline oil within a few days of oiling. These response actions did not prevent natural resource impacts from occurring nor did these actions restore or rehabilitate natural resource and service injuries that resulted from the incident.

Natural resource trusteeship authority is designated according to section 1006(b) of OPA, Executive Order 12777, October 22, 1991 (56 FR 54757), and Subpart G of the National Oil and Hazardous Substances Pollution Contingency Plan, 40 CFR part 300. Federal trustees are designated by the President, and state trustees by the Governor. Acting on behalf of the public as trustees for the living and non-living resources in the coastal and marine environments of Florida, the National Oceanic and Atmospheric Administration and the Florida Department of Environmental Protection, are responsible for assessing injuries to trust resources resulting from oil spill incidents, and for developing and implementing a plan for the restoration, rehabilitation, replacement, or acquisition of the equivalent of injured natural resources and their services.

Pursuant to section 1002(a) of OPA, each party responsible for a vessel or facility from which oil is discharged, or which poses a substantial threat of a discharge of oil, into or upon the navigable waters of the United States or adjoining shorelines, is liable for natural resource damages from incidents that involve such actual or threatened discharges of oil. The measure of damages to natural resources is the cost of restoring, rehabilitating, replacing or acquiring the equivalent of the injured natural resources, compensation for the diminution in value of those natural resources pending restoration, and the reasonable costs of assessing such damages. All recoveries for the first two elements are to be spent implementing a restoration plan developed by the trustees. In this case, there is not an identified responsible party to pay damages. When there is not a responsible party, the Federal Oil Spill Liability Trust Fund is available to pay claims for the costs of assessing natural resource damages and for developing and implementing restoration plans.

The trustees quantified injury to sea turtles, fish and invertebrates, seabirds, and recreational beaches for inclusion in a claim for restoration costs. The trustees determined that their selected alternative to address injuries and losses of sea turtles is a combination of active primary restoration (to return sea turtle resources and services to baseline) and compensatory restoration (to compensate for interim losses pending recovery to baseline). The primary restoration consists of augmenting lighting ordinance enforcement activities that will return sea turtles to baseline by preventing mortality of turtle hatchlings due to disorientation. The selected compensatory restoration also augments lighting ordinance enforcement, which will provide additional turtle hatchlings to compensate for the interim turtle losses. The compensatory component of the enforcement project will be of sufficient scale to provide compensatory ecological services approximately equivalent to those that will be lost from the injured turtles pending recovery to baseline.

No primary restoration actions are necessary for the fish and invertebrate, and seabird injuries. However, the trustees have selected projects as compensation for an acute kill of fish, invertebrates, and seabirds. The trustees will create mangrove habitat in order to provide the fish and invertebrate biomass that was lost.

To replace the birds that were killed, the trustees will save birds from future injury. The trustees will install signs at a fishing pier that warn anglers from cutting their lines and that demonstrate how to free birds from fishing lines and hooks, which will prevent entanglement and provide seabird rescue in the event of entanglement.

The impacted recreational beaches were returned to baseline conditions through incident response actions, however there was a period of lost use during the response phase. The selected compensatory restoration projects are to plant sea oats to build dunes, construct dune walkovers, provide handicapped carts, and provide shade areas that together will maintain beaches for future use, provide access to the beach, and improve the quality of the beach experience.

Dated: August 16, 2002.
Jamison S. Hawkins,
Deputy Assistant Administrator for Ocean Services and Coastal Zone Management.

[FR Doc. 02-24223 Filed 9-23-02; 8:45 am]

BILLING CODE 3510-JE-P